DEPARTMENT OF LABOR

Employment and Training Administration

[TA-W-52,493]

North Pacific Processors, Inc., Cordova, AK; Notice of Termination of Investigation

Pursuant to Section 221 of the Trade Act of 1974, as amended, an investigation was initiated on August 11, 2003 in response to a petition filed by a company official on behalf of workers at North Pacific Processors, Inc., Cordova, Alaska.

The petitioner has requested that the petition be withdrawn. Consequently, the investigation has been terminated.

Signed at Washington, DC, this 23rd day of September 2003.
Linda G. Poole,
Certifying Officer, Division of Trade Adjustment Assistance.

[FR Doc. 03-27454 Filed 10-30-03; 8:45 am]

BILLING CODE 4510-30-P